DEPARTMENT OF ENERGY

Federal Energy Regulatory Commission

Combined Notice of Filings #1

Take notice that the Commission received the following electric rate filings:

Docket Numbers: ER15-1582-023; ER15-760-021; ER15-762-024; ER15-1579-022; ER15-1914-024; ER15-2679-016; ER15-2680-020; ER16-468-018; ER16-474-019; ER16-890-019; ER16-1255-021; ER16-1609-010; ER16-1738-018; ER16-1901-018; ER16-1955-018; ER16-1956-018; ER16-1973-018; ER16-2201-017; ER16-2224-017; ER10-3145-019; ER10-3162-011; ER11-2701-020; ER16-2541-013; ER16-2578-018; ER17-306-017; ER17-544-017; ER17-1864-016; ER17-1871-016; ER17-1909-016; ER18-1667-013; ER18-2327-011; ER18-2492-014; ER19-846-013; ER19-847-013; ER19-1179-007; ER19-1473-008; ER19-1474-007; ER19-2527-006; ER20-902-010; ER20-1593-010; ER20-1594-009; ER20-1596-010; ER20-1597-010; ER20-1599-010; ER20-1629-011; ER20-2065-008; ER20-2066-008; ER20-2519-007; ER21-1488-008; ER21-2156-008; ER21-2289-003; ER21-2766-007; ER22-414-011; ER22-799-008; ER23-48-006; ER23-937-005; ER23-1165-004; ER23-1319-005; ER23-1589-005; ER23-1668-006; ER23-1669-006; ER23-2440-004; ER23-2441-005; ER24-55-005; ER24-1035-005; ER24-1697-003; ER24-1698-004; ER24-2148-003; ER25-451-002; ER10-3120-018.

Applicants: AES Huntington Beach, L.L.C., 50LW 8me LLC, McFarland Storage C, LLC, AES ES Alamitos 2, LLC, AES Westwing II ES, LLC, 20SD 8me LLC, Silver Peak Energy, LLC, Chevelon Butte RE II LLC, McFarland Solar B, LLC, Raceway Solar 1, LLC, Estrella Solar, LLC, AES ES Westwing, LLC, Baldy Mesa Solar, LLC, McFarland Solar A, LLC, Chevelon Butte RE LLC, West Line Solar, LLC, Lancaster Area Battery Storage, LLC, AES Marketing and Trading, LLC, Central Line Solar, LLC, Clover Creek Solar, LLC, Antelope Expansion 1B, LLC, Luna Storage, LLC, East Line Solar, LLC, Antelope Expansion 3B, LLC, Antelope Expansion 3A, LLC, AES ES Alamitos, LLC, Richmond Spider Solar, LLC, Pleinmont Solar 2, LLC, Pleinmont Solar 1, LLC, Highlander IA, LLC, Highlander Solar Energy Station 1, LLC, sPower Energy Marketing, LLC, Prevailing Wind Park, LLC, AES Huntington Beach Energy, LLC, AES Alamitos Energy, LLC, AES ES Gilbert, LLC, San Pablo Raceway, LLC, Antelope DSR 3, LLC, FTS Master Tenant 2, LLC, Riverhead Solar Farm, LLC, Antelope Expansion 2, LLC, Bayshore Solar C, LLC, Bayshore Solar B, LLC, Bayshore Solar A, LLC, Beacon Solar 1, LLC, Beacon Solar 3, LLC, North Lancaster Ranch LLC, Pioneer Wind Park I, LLC, Mountain View Power Partners IV, LLC, Mountain View Power Partners III, LLC, AES Alamitos, LLC, Solverde 1, LLC, Antelope DSR 1, LLC, Western Antelope Blue Sky Ranch B LLC, Western Antelope Dry Ranch LLC, Antelope DSR 2, LLC, Elevation Solar C LLC, Beacon Solar 4, LLC, ID SOLAR 1, LLC, Antelope Big Sky Ranch LLC, Summer Solar LLC, Central Antelope Dry Ranch C LLC, FTS Master Tenant 1, LLC, Sandstone Solar LLC, Latigo Wind Park, LLC, 87RL 8me LLC, 67RK 8me LLC, Sierra Solar Greenworks LLC, Western Antelope Blue Sky Ranch A LLC, 65HK 8me LLC.

Description: Updated Triennial Market Power Analysis for Southwest Region of 65HK 8me LLC et al.

Filed Date: 6/30/25.

Accession Number: 20250630-5371.

Comment Date: 5 p.m. ET 8/29/25.

Docket Numbers: ER20-391-014; ER21-2557-010; ER22-2662-010; ER22-2663-010; ER22-2664-010; ER23-1275-008; ER23-1276-008; ER24-1276-005; ER24-1277-002; ER24-2249-006; ER24-2250-005; ER24-2251-005; ER24-2854-004; ER24-2855-004; ER24-2856-004; ER25-938-002; ER25-939-002; ER25-940-002; ER25-1422-002.

Applicants: Aron Energy Prepay 57 LLC, Aron Energy Prepay 53 LLC, Aron Energy Prepay 52 LLC, Aron Energy Prepay 51 LLC, Aron Energy Prepay 46 LLC, Aron Energy Prepay 45 LLC, Aron Energy Prepay 44 LLC, Aron Energy Prepay 43 LLC, Aron Energy Prepay 42 LLC, Aron Energy Prepay 41 LLC, Aron Energy Prepay 36 LLC, Aron Energy Prepay 35 LLC, Aron Energy Prepay 22 LLC, Aron Energy Prepay 21 LLC, Aron Energy Prepay 16 LLC, Aron Energy Prepay 15 LLC, Aron Energy Prepay 14 LLC, Aron Energy Prepay 5 LLC, J. Aron & Company LLC.

Description: Updated Triennial Market Power Analysis for Southwest Region and Notice of Non-Material Change in Status of J. Aron & Company LLC, et al.

Filed Date: 6/30/25.

Accession Number: 20250630-5372.

Comment Date: 5 p.m. ET 8/29/25.

Docket Numbers: ER20-479-005; ER11-2657-014; ER19-2214-003; ER20-481-006; ER20-482-005; ER20-484-005; ER20-1650-006; ER20-2098-004; ER22-1523-004; ER22-1549-007; ER23-912-003; ER24-3018-001; ER24-3127-001.

Applicants: Sun Pond, LLC, Serrano Solar, LLC, Sun Streams Expansion, LLC, Sun Streams PVS, LLC, Sun Streams 2, LLC, Titan Solar 1, LLC, Little Bear Master Tenant, LLC, Little Bear Solar 5, LLC, Little Bear Solar 4, LLC, Little Bear Solar 3, LLC, Milford Wind Corridor Phase I, LLC, Milford Wind Corridor Phase II, LLC, Little Bear Solar 1, LLC.

Description: Triennial Market Power Analysis for Southwest Region of Little Bear Solar 1, LLC, et al.

Filed Date: 6/30/25.

Accession Number: 20250630-5370.

Comment Date: 5 p.m. ET 8/29/25.

Docket Numbers: ER21-1755-014; ER23-1642-011; ER14-2500-022; ER24-280-004.

Applicants: Hartree-Meadowlands Newark, LLC, Newark Energy Center, LLC, Stored Solar J&WE, LLC, Hartree Partners, LP.

Description: Updated Triennial Market Power Analysis for Southwest Region of Hartree Partners, LP, et al.

Filed Date: 6/30/25.

Accession Number: 20250630-5351.

Comment Date: 5 p.m. ET 8/29/25.

Docket Numbers: ER23-327-003; ER15-1066-006; ER16-892-005; ER16-893-006; ER16-1371-007; ER17-43-005; ER17-44-005; ER17-239-006; ER17-2318-005; ER18-697-004; ER18-2516-004; ER20-2472-003; ER21-207-003; ER21-2911-003; ER21-2912-003; ER23-326-003; ER24-719-003; ER24-720-003; ER25-1107-002.

Applicants: SloughHouse Solar, LLC, SJS 1 Storage, LLC, San Juan Solar 1, LLC, Arroyo Solar LLC, Drew Solar-CA, LLC, Drew Solar, LLC, Rancho Seco Solar, LLC, Rancho Seco Solar II LLC, Willow Springs Solar, LLC, Gray Hawk Solar, LLC, Cuyama Solar, LLC, TPE Alta Luna, LLC, Portal Ridge Solar C, LLC, Portal Ridge Solar B, LLC, 63SU 8ME LLC, 62SK 8ME LLC, Red Horse III, LLC, Red Horse Wind 2, LLC, Arroyo Energy Storage LLC.

Description: Triennial Market Power Analysis for Southwest Region of Arroyo Energy Storage LLC, et al.

Filed Date: 6/30/25.

Accession Number: 20250630-5373.

Comment Date: 5 p.m. ET 8/29/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: July 7, 2025.
Carlos D. Clay,
Deputy Secretary.

[FR Doc. 2025-12847 Filed 7-9-25; 8:45 am]

BILLING CODE 6717-01-P